DEPARTMENT OF DEFENSE

Department of the Navy

Notice of Intent To Grant Partially Exclusive Patent License; NXTANT Inc.

AGENCY: Department of the Navy, DoD.

ACTION: Notice of intent to grant license.

SUMMARY: The Department of the Navy hereby gives notice of its intent to grant to NXTANT Inc. a partially exclusive license to practice the Government-owned inventions described in the following U.S. Patents: U.S. Patent No. 8427249 titled “Resonator with reduced acceleration sensitivity and phase noise using time domain switch”; U.S. Patent No. 8490462 titled “Auto-ranging for time domain inertial sensor”; U.S. Patent No. 8650955 titled “Time domain switched gyroscope”; U.S. Patent No. 8875576 titled “Apparatus and method for providing an in-plane inertial device with integrated clock”; U.S. Patent No. 8991250 titled “Tuning fork gyroscope time domain inertial sensor”; U.S. Patent No. 9103673 titled “Inertial sensor using sliding plane proximity switches”; U.S. Patent No. 9128496 titled “Auto-ranging for time domain extraction of perturbations to sinusoidal oscillation”; U.S. Patent No. 9157814 titled “Apparatus and methods for time domain measurement using phase shifted virtual intervals”; U.S. Patent No. 9705450 titled “Apparatus and methods for time domain measurement of oscillation perturbations”; U.S. Patent No. 9715480 titled “Method for analytical reconstruction of digital signals via stitched polynomial fitting”; as well as any corresponding foreign patent applications and any foreign patent issuing thereon, and any re-issue.

DATES: Anyone wishing to object to the grant of this license has fifteen (15) days from the publication date of this notice to file written objections along with supporting evidence, if any.

ADDRESSES: Written objections are to be filed with the Office of Research and Technology Applications, Space and Naval Warfare Systems Center Pacific, Code 72120, 53560 Hull St., Bldg. A33, Room 2531, San Diego, CA 92152-5001.

File an electronic copy of objections with paul.a.herbert@navy.mil.

FOR FURTHER INFORMATION CONTACT: Mr. Paul Herbert, 619-553-5118, paul.a.herbert@navy.mil.

(Authority: 35 U.S.C. 209(e); 37 CFR 404.7)

Dated: March 1, 2018.
E.K. Baldini,
Lieutenant Commander, Judge Advocate General's Corps, U.S. Navy, Federal Register Liaison Officer.

[FR Doc. 2018-04811 Filed 3-8-18; 8:45 am]

BILLING CODE 3810-FF-P